DEPARTMENT OF THE INTERIOR

Fish and Wildlife Service

[FW-HQ-MB-2015-N185; FXMB123109EAGLE-156-FF09M20300]

Proposed Information Collection; Bald Eagle Post-Delisting Monitoring

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on December 31, 2015. We may not conduct or sponsor and a person is not required to respond to a collection of information unless it displays a currently valid OMB control number.

DATES: To ensure that we are able to consider your comments on this IC, we must receive them by November 23, 2015.

ADDRESSES: Send your comments on the IC to the Information Collection Clearance Officer, U.S. Fish and Wildlife Service, MS BPHC, 5275 Leesburg Pike, Falls Church, VA 22041-3803 (mail); or hope_grey@fws.gov (email). Please include “1018-0143” in the subject line of your comments.

FOR FURTHER INFORMATION CONTACT: To request additional information about this IC, contact Hope Grey at hope_grey@fws.gov (email) or 703-358-2482 (telephone).

SUPPLEMENTARY INFORMATION:

I. Abstract. This information collection implements the monitoring requirements discussed in the Post-delisting Monitoring Plan for the Bald Eagle (Haliaeetus leucocephalus) in the Contiguous 48 States (Plan). The Plan was developed to meet post-delisting requirements of the Endangered Species Act (16 U.S.C. 1531 et seq.) (ESA). There are no specific corresponding Service regulations for the ESA's post-delisting monitoring requirement.

The bald eagle (Haliaeetus leucocephalus) in the lower 48 States was removed from the List of Endangered and Threatened Wildlife (delisted) on August 8, 2007 (72 FR 37346, July 9, 2007). Section 4(g) of the ESA requires that all species that are recovered and removed from the List of Endangered and Threatened Wildlife be monitored in cooperation with the States for a period of not less than 5 years. The purpose of this requirement is to detect any failure of a recovered species to sustain itself without the protections of the ESA. We work with relevant Federal, State, and tribal entities and other species experts to develop plans and procedures for systematically monitoring recovered wildlife and plants after a species is delisted. The bald eagle has a large geographic distribution that includes substantial non-Federal land. Although the ESA requires that monitoring of recovered species be conducted for not less than 5 years, the Plan reasoned that the life history of bald eagles is such that it is appropriate to monitor this species for a longer period of time in order to meaningfully evaluate whether or not the bald eagle continues to maintain its recovered status.

We plan to monitor the status of the bald eagle in the 48 contiguous States using several information sources, including collecting data on nests over a 20-year period with sampling events in particular years. The Plan describes monitoring procedures and methods for surveying and estimating the number of occupied nests, which represents the number of breeding pairs. The Plan is available at http://www.fws.gov/midwest/eagle/protect/FinalBAEA_PDMPlan.html. We will use monitoring data to review the status of the bald eagle in the United States and determine if the population remains recovered under the ESA.

II. Data

OMB Control Number: 1018-0143.

Title: Bald Eagle Post-delisting Monitoring.

Service Form Number: None.

Type of Request: Extension of a currently approved collection.

Description of Respondents: States, tribes, and local governments; Federal land managers; and nongovernmental partners.

Respondent's Obligation: Voluntary.

Frequency of Collection: Once every 5 years or less.

Note: For each survey, we estimate a total of 48 respondents will provide 48 responses totaling 1,478 burden hours. The burden estimates below are annualized over the 3-year period of OMB approval.

Estimated Annual Nonhour Burden Cost: None.

Activity | Number of respondents | Number of responses | Completion time per response (hours) | Total annual burden hours
Survey | 16 | 16 | 30.8 | 493
Totals |  |  |  | 493

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 16, 2015.
Tina A. Campbell,
Chief, Division of Policy, Performance, and Management Programs, U.S. Fish and Wildlife Service.

[FR Doc. 2015-23969 Filed 9-21-15; 8:45 am]

BILLING CODE 4310-55-P